DEPARTMENT OF COMMERCE

National Oceanic and Atmospheric Administration

[I.D. 060506B]

New England Fishery Management Council; Public Meeting

AGENCY: National Marine Fisheries Service (NMFS), National Oceanic and Atmospheric Administration (NOAA), Commerce.

ACTION: Notice of a public meeting.

SUMMARY: The New England Fishery Management Council (Council) is scheduling a public meetings of its Monkfish Oversight Committee in June, 2006 to consider actions affecting New England fisheries in the exclusive economic zone (EEZ). Recommendations from this group will be brought to the full Council for formal consideration and action, if appropriate.

DATES: The meeting will be held on Thursday, June 29, 2006, at 9 a.m.

ADDRESSES: The meeting will be held at the Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Plan Development Team (PDT) will present to the committee its analysis of, and recommendations for, target total allowable catch (TAC) alternatives and associated management measures for Framework 4. In addition, the PDT will provide comments and recommendations on other measures previously identified by the committee for consideration in Framework 4. The measures to be discussed include, but are not limited to, monkfish trip limits and days-at-sea usage requirements in the northern management area, days-at-sea leasing, industry proposals for a large-mesh gillnet category and a shift in the boundary of the monkfish fishery off the North Carolina/Virginia coast.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 6, 2006.
Tracey L. Thompson,
Acting Director, Office of Sustainable Fisheries, National Marine Fisheries Service.

[FR Doc. E6-9025 Filed 6-8-06; 8:45 am]

BILLING CODE 3510-22-S